NATIONAL AERONAUTICS AND SPACE ADMINISTRATION

[Notice (11-058)]

National Environmental Policy Act; Santa Susana Field Laboratory

AGENCY: National Aeronautics and Space Administration (NASA).

ACTION: Notice of intent to conduct scoping and prepare an Environmental Impact Statement (EIS) for Demolition and Environmental Cleanup Activities for the NASA administered portion of the Santa Susana Field Laboratory (SSFL), Ventura County, California.

SUMMARY: Pursuant to the National Environmental Policy Act (NEPA), as amended, (42 U.S.C. 4321 et seq.), the Council on Environmental Quality Regulations for Implementing the Procedural Provisions of NEPA (40 CFR Parts 1500-1508), and NASA's NEPA policy and procedures (14 CFR Part 1216, subpart 1216.3), NASA intends to prepare an EIS for demolition and cleanup activities at SSFL in Ventura County, California. Furthermore, pursuant to 36 CFR Section 800.8(c) of the National Historic Preservation Act (NHPA), NASA will use the NEPA process and the EIS it produces to comply with Section 106 of NHPA in lieu of the procedures set forth in Sections 800.3 through 800.6.

The purpose of this notice is to apprise interested agencies, organizations, tribal governments, and individuals of NASA's intent to prepare the EIS. NASA will hold public scoping meetings to get the views of interested parties regarding appropriate action alternatives and significant environmental issues associated with the development of the EIS. The scoping meeting locations and dates identified at this time are provided under SUPPLEMENTARY INFORMATION below.

DATES: Interested parties are invited to submit comments on environmental issues and concerns, preferably in writing, on or before September 17, 2011, to assure full consideration during the scoping process.

ADDRESSES: Comments submitted by mail should be addressed to Allen Elliott, SSFL Project Director, NASA MSFC AS01, Building 4494, Huntsville, AL 35812. Comments may be submitted via e-mail to msfc-ssfl-eis@mail.nasa.gov.

FOR FURTHER INFORMATION CONTACT: Allen Elliott, SSFL Project Director, by phone at (256) 544-0662 or by e-mail at msfc-ssfl-eis@mail.nasa.gov. Additional information about NASA's SSFL site, the proposed demolition and cleanup activities, and the associated EIS planning process and documentation (as available) may be found on the internet at http://ssfl.msfc.nasa.gov or on the California Department of Toxic Substances Control (DTSC) Web site at http://www.dtsc.ca.gov/SiteCleanup/Santa_Susana_Field_Lab/.

SUPPLEMENTARY INFORMATION:

SSFL Site Background

The SSFL site is 2,850 acres located in Ventura County, California approximately seven miles northwest of Canoga Park and approximately 30 miles northwest of downtown Los Angeles. SSFL is comprised of four areas known as Areas I, II, III, and IV and two unnumbered areas known as the “undeveloped land”. NASA administers 41.7 acres within Area I and all 409.5 acres of Area II. The Boeing Company manages the remaining 2,398.8 acres within Areas I, III, IV, and two undeveloped areas.

Since the mid-1950s, when the two federally-owned areas were owned by the U.S. Air Force, this site has been used for developing and testing rocket engines. Four test stand complexes were constructed in Area II between 1954 and 1957 named Alfa, Bravo, Coca, and Delta. Area II and the LOX Plant portion of Area I were acquired by NASA from the U.S. Air Force in the 1970s. These test stands and related ancillary structures have been found to have historical significance based on the historic importance of the engine testing and the engineering and design of the structures.

The NASA administered areas of SSFL also contain cultural resources not related to rocket development. SSFL is located near the crest of the Simi Hills that are part of the Santa Monica Mountains running east-west across Southern California. The diverse terrain consists of ridges, canyons and sandstone rock outcrops. The region was occupied by Native Americans from the earliest Chumash, Tongva, and Tataviam cultures. NASA has conducted several previous surveys to locate archaeological and architectural resources within its portion of the SSFL. As a result, NASA has identified one historic property, the Burro Flats Painted Cave, that is listed on the National Register of Historic Places (NRHP), as well as multiple buildings and structures that are either individually eligible for listing on the NRHP or are elements of NRHP-eligible historic districts containing multiple architectural resources.

Previous environmental sampling on the NASA administered property indicates that metals, dioxins, PCBs, volatile organics, and semi-volatile organics are present in the soils and upper groundwater (known as the Surficial Media Operable Unit). Volatile organics, metals, and semi-volatile organics are also present in the deeper groundwater (known as the Chatsworth Formation Operable Unit).

Environmental Commitments and Associated Environmental Review

Rocket engine testing has been discontinued at these sites and the property has been excessed to the General Services Administration (GSA). GSA has conditionally accepted the Report of Excess pending (i) NASA's certification that all action necessary to protect human health and the environment with respect to hazardous substances on the property has been taken or receipt of EPA's written concurrence that an approved and installed remedial design is operating properly and successfully, OR (ii) the Governor's concurrence in the suitability of the property for transfer per CERCLA Section 120(h)(3)(C).

In 2007, a Consent Order among NASA, Boeing, DOE, and DTSC was signed addressing demolition of certain infrastructure and environmental cleanup of SSFL. NASA entered into an Administrative Order on Consent (AOC) for Remedial Action with DTSC on December 6, 2010 “to further define and make more specific NASA's obligations with respect to the cleanup of soils at the Site.” Based on the 2010 Order, NASA is required to complete a federal environmental review pursuant to NEPA, NASA Procedural Requirement (NPR) 8580.1, and Executive Order (EO) 12114. An EIS is being prepared by NASA to include demolition of site infrastructure and soil cleanup, pursuant to the AOC, and groundwater remediation within Area II and a portion of Area I (LOX Plant) of SSFL.

As part of the environmental review process, certain studies are being completed in order to characterize the existing conditions and inform the analysis and consultation. These include surveys for wildlife, critical habitat, rare plants, wetlands, and archaeological and cultural resources. The findings of these studies will be incorporated into the EIS.

Alternatives

In order to prepare SSFL for disposition, NASA proposes the demolition of SSFL structures and cleanup of the site to meet the AOC commitments. The EIS will consider a range of alternatives that meets NASA's objectives to clean up soil and groundwater contamination at the portion of the SSFL site administered by NASA. Implementation of this proposed action would occur by implementing one Demolition Alternative and one Environmental Cleanup Alternative, from the following:

Demolition Alternatives

• Demolition Alternative;

• No Demolition Alternative (No Action).

Environmental Cleanup Alternatives

• Alternative for Soil Cleanup to Background Levels and Groundwater Cleanup to Suburban Residential Cleanup Goals;

• Alternative for Soil and Groundwater Cleanup to Suburban Residential Cleanup Goals;

• Alternative for Soil and Groundwater Cleanup to Industrial Cleanup Goals;

• Alternative for Soil and Groundwater Cleanup to Recreational Cleanup Goals;

• No Environmental Cleanup Alternative (No Action).

Per NEPA, NASA is required to include analysis of the “No Action” alternative. For the purpose of this analysis two No Action Alternatives are presented. The No Action Alternative analysis involves no environmental cleanup at the site and/or no demolition of test stands and ancillary structures on the NASA-administered property.

NASA anticipates that the areas of potential environmental impact from each alternative of most interest to the public are likely to include: Soil removal/erosion; hazardous waste storage and disposal; potential impacts to threatened, endangered, and sensitive species; effects on critical habitat and wetlands; impacts to cultural and historic resources; air quality and greenhouse gas emissions; and disturbance to groundwater, surface water, or geologic structure.

Scoping Meetings

NASA plans to hold three public scoping meetings to introduce the SSFL project and EIS planning process and to solicit public comments regarding alternatives and environmental issues to be considered in the EIS. The public scoping meetings are scheduled as follows:

1. Chatsworth, Tuesday, August 16, 2011, 6-8:30 p.m. at the Chatsworth Hotel, 9777 Topanga Canyon Road, Chatsworth, CA 91311.

2. Simi Valley, Wednesday, August 17, 6-8:30 p.m. at the Grand Vista, 999 Enchanted Way, Simi Valley, CA 93065.

3. West Hills, Thursday, August 18, 9:30-12 at the Corporate Pointe at West Hills, 8413 Fallbrook Ave, West Hills, CA 91304 areas.

During the EIS planning process, the public will be provided several opportunities for involvement, the first of which is initiated with this NOI and is referred to as scoping. In accordance with NEPA, the purpose of scoping is to provide “an early and open process for determining the scope of issues to be addressed and for identifying the significant issues related to a proposed action”. Future opportunities for comment and involvement will include reviews of the Draft and Final EIS. The availability of these documents will be published in the Federal Register and through local news media to ensure that all members of the public have the ability to actively participate in the NEPA process.

In conclusion, written public input is hereby requested on alternatives and environmental issues and concerns, including impacts to historic properties, associated with Demolition and Environmental Cleanup Activities at NASA's SSFL site in Ventura County, California that should be addressed in the EIS.

Olga M. Dominguez,
Assistant Administrator, Office of Strategic Infrastructure.

[FR Doc. 2011-16819 Filed 7-5-11; 8:45 am]

BILLING CODE 7510-13-P